DEPARTMENT OF ENERGY

Federal Energy Regulatory Commission

Combined Notice of Filings

Take notice that the Commission has received the following Natural Gas Pipeline Rate and Refund Report filings:

Docket Numbers: RP13-448-000.

Applicants: Great Lakes Gas Transmission Limited Par.

Description: Great Lakes Gas Transmission Limited Partnership Revenue Subject to Sharing True-Up Report.

Filed Date: 1/15/13.

Accession Number: 20130115-5083.

Comments Due: 5 p.m. ET 1/28/13.

Docket Numbers: RP13-449-000.

Applicants: Natural Gas Pipeline Company of America.

Description: Natural Gas Pipeline Company of America LLC submits tariff filing per 154.204: Tenaska Amendmemt Filing to be effective 1/16/2013.

Filed Date: 1/16/13.

Accession Number: 20130116-5022.

Comments Due: 5 p.m. ET 1/28/13.

Docket Numbers: RP13-450-000.

Applicants: Natural Gas Pipeline Company of America.

Description: Natural Gas Pipeline Company of America LLC submits tariff filing per 154.204: Tenaska Neg Filing to be effective 1/16/2013.

Filed Date: 1/16/13.

Accession Number: 20130116-5023.

Comments Due: 5 p.m. ET 1/28/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Dated: January 16, 2013.
Nathaniel J. Davis, Sr.,
Deputy Secretary.

[FR Doc. 2013-01508 Filed 1-24-13; 8:45 am]

BILLING CODE 6717-01-P